DEPARTMENT OF THE INTERIOR

Bureau of Indian Affairs

25 CFR Part 151

Acquisition of Title to Land in Trust; Delay of Effective Date

Correction

Rule document 01-9382 was inadvertently published in the Proposed Rules section in the issue of Monday, April 16, 2001, appearing on page 19403. It should have appeared in the Rules and Regulations section.

[FR Doc. C1-9382 Filed 6-12-01; 8:45 am]

BILLING CODE 1505-01-D

DEPARTMENT OF DEFENSE

Department of the Air Force

32 CFR Part 989

RIN 0701-AA56

Environmental Impact Analysis Process (EIAP); Correction

Correction

In rule document 01-14681 appearing on page 31177, in the issue of Monday, June 11, 2001, make the following correction:

On page 31177, in the first column, under the heading DATES: in the first line, “July 11, 2001” should read “June 11, 2001”.

[FR Doc. C1-14681 Filed 6-12-01; 8:45 am]

BILLING CODE 1505-01-D